DEPARTMENT OF STATE

Inspector General

[Public Notice 3418—corrected]

State Department Performance Review Board Members (Office of Inspector General)

In accordance with section 4314(c)(4) of the Civil Service Reform Act of 1978 (Pub. L. 95-454), the Office of Inspector General of the Department of State has appointed the following individuals to its Performance Review Board register.

Margaret P. Grafeld, Director, Office of Information Resources, Bureau of Administration, Department of State

Dennis Duquette, Deputy Inspector General for Management Policy, Department of Health and Human Services

Carol Levey, Assistant Inspector General for Investigations, Department of Defense

Dated: September 6, 2000.
Jacquelyn L. Williams-Bridgers,
Inspector General, Department of State.

[FR Doc. 00-23640 Filed 9-13-00; 8:45 am]

BILLING CODE 4710-42-M